DEPARTMENT OF TRANSPORTATION

Federal Motor Carrier Safety Administration

[Docket No. FMCSA-2015-0041]

Agency Information Collection Activities; New Emergency Information Collection Request: Report by State Driver Licensing Agencies (SDLAs) on the Annual Number of Entry-Level Commercial Driver's License (CDL) Applicants and Related Data

AGENCY: Federal Motor Carrier Safety Administration (FMCSA), DOT.

ACTION: Notice and request for comments.

SUMMARY: In accordance with the Paperwork Reduction Act of 1995, FMCSA announces that the Information Collection Request (ICR) described below will be submitted to the Office of Management and Budget (OMB) for emergency approval under 5 U.S.C. 1320.13. FMCSA requests approval of this ICR by 30 days from the publication of this notice. The purpose of this information collection is to inform the public of the Agency's development of a mandatory driver-training program primarily for individuals applying for their first commercial driver's license (CDL). FMCSA is not aware of any other source for this data. The Agency has attempted to obtain this information for many years. In its search, the Agency has explored several other avenues for finding this information. For example, the Agency considered asking various trade groups representing private and public truck driving schools for their cooperation, but soon realized that these entities generally did not have the desired information either. This ICR would allow State Driver Licensing Agencies (SDLAs) to furnish this critical data and thereby inform the design of the CDL driver training program to be proposed by the Agency for public comment. The Department of Transportation (DOT) and FMCSA will also use this data to inform future commercial-driving safety initiatives.

DATES: Please send your comments by May 6, 2015. OMB must receive your comments by this date in order to act quickly on the ICR.

ADDRESSES: All comments should reference Federal Docket Management System (FDMS) Docket Number FMCSA-2015-0041. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-7245, or mailed to the Office of Information and Regulatory Affairs, Office of Management and Budget, Docket Library, Room 10102, 725 17th Street NW., Washington, DC 20503.

FOR FURTHER INFORMATION CONTACT: Robert F. Schultz, Driver and Carrier Operations Division, Federal Motor Carrier Safety Administration, U.S. Department of Transportation, West Building 6th Floor, 1200 New Jersey Avenue SE., Washington, DC 20590. Telephone: 202-366-4325; email buz.schultz@dot.gov.

SUPPLEMENTARY INFORMATION: Title: Report by SDLAs on the Annual Number of Entry-Level CDL Applicants and Related Data.

OMB Control Number: 2126-00XX.

Type of Request: New information collection.

Respondents: State Driver Licensing Agencies (SDLAs).

Estimated Number of Respondents: 51 respondents (a report from the SDLA of each State and the District of Columbia).

Estimated Number of Responses: 51 responses.

Estimated Time per Response: 19 hours and 30 minutes.

Form Number: MCSA-5894, “Request for Data to State Driver Licensing Agencies”

Expiration Date: N/A. This is a new information collection.

Frequency of Response: One-time.

Estimated Total Annual Burden: 995 hours (51 respondents × 19 hours and 30 minutes per respondent, rounded).

Background

On July 6, 2012, the President signed legislation titled “Moving Ahead for Progress in the 21st Century Act (MAP-21).” Section 32304 of MAP-21 (49 U.S.C. 31305(c)) provides that the Secretary of Transportation must issue final regulations establishing minimum entry-level training requirements for individuals before obtaining a CDL for the first time or prior to upgrading from one class of CDL to another. The Agency is required to develop instruction and behind-the-wheel training that will be effective in providing entry-level CDL drivers the knowledge and skills they need to operate a commercial motor vehicle safely.

On September 18, 2014, Advocates for Highway and Auto Safety, the International Brotherhood of Teamsters, and Citizens for Reliable and Safe Highways sued FMCSA and DOT in the United States Court of Appeals for the District of Columbia Circuit (Case no. 14-1183). The plaintiffs petitioned for an order of mandamus compelling DOT to publish a final rule on entry-level driver training within 180 days. While as of this date the court has not ruled on the petition, the court could order that a notice of proposed rulemaking (NPRM) and final rule be drafted according to a highly expedited schedule. Obtaining this data would help address this urgent legal issue in a timely manner.

FMCSA has taken numerous steps toward satisfying the section 32304 mandate. The Agency has conducted two public listening sessions in conjunction with industry trade shows and engaged its Motor Carrier Safety Advisory Committee to provide recommendations to support the rulemaking. FMCSA learned that there is not agreement among stakeholders about how to satisfy the statutory mandate.

Next, FMCSA commissioned a neutral convener to analyze the feasibility of conducting a negotiated rulemaking (Reg Neg) to develop the regulations (5 U.S.C. 581-590). Based upon the convener's recommendation, FMCSA, on December 10, 2014, published notice of its intent to establish an Entry-Level Driver Training Advisory Committee (ELDTAC) to negotiate proposed regulations to implement section 32304. On February 12, 2015, the Agency published notice of the first meeting of the ELDTAC, which was held on February 26-27, 2015 (80 FR 7814). The FMCSA is currently engaged in regular negotiations with the ELDTAC expected to go through May 2015 with a target date for publication of an NPRM of October 15, 2015 (Id. at 7815).

Despite these efforts and the urgent nature and schedule of the negotiations, FMCSA lacks certain data that is crucial to its efforts to satisfy the MAP-21 mandate—for example, the number of individuals who would require entry-level CDL driver training annually. Given that this rulemaking will likely be considered “significant” within the meaning of E. O. 12988, obtaining this data is crucial to developing an NPRM and the required cost-benefit analysis. The data, combined with other data in the Agency's possession, will also be central to the ability of ELDTAC to build consensus among the various stakeholders.

The only known source of the number of individuals who obtain their first and upgraded CDL each year is the 50 States and the District of Columbia. The only way the Agency can obtain this information is by asking the SDLAs to report it to FMCSA.

Public Comments Invited

The Agency requests emergency processing of this information request valid for 180 days (44 U.S.C. 3507(j)(2)) based on its determination as required under the Paperwork Reduction Act and its implementing regulations as follows: The information collection is “essential” to FMCSA's safety mission: to reduce crashes, injuries, and fatalities involving large trucks and buses (44 U.S.C. 3507(j)(1)(A)(ii), 5 CFR 1320.13(a)(1)(ii)). Expedited review is necessary to minimize public harm that is reasonably likely to result if normal clearance processes are followed resulting from the operation of trucks and motor coaches by individuals lacking appropriate driver training that would be required by this rulemaking (44 U.S.C. 3507(j)(1)(B)(i), 5 CFR 1320.13(a)(2)(i)). In addition, use of the normal clearance process is reasonably likely to cause a “court-ordered deadline to be missed” (44 U.S.C. 3507(j)(1)(B)(iii), 5 CFR 1320.13(a)(2)(iii)). This ICR is narrowly focused and practical steps have been taken to obtain this information in the past, as described in this notice above to minimize its burden on the SDLAs it would apply to (5 CFR 1320.13(c)).

You are asked to comment on any aspect of this information collection, including:

(1) Whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87 on March 31, 2015.
G. Kelly Regal,
Associate Administrator for Office of Research and Information Technology.

[FR Doc. 2015-07808 Filed 4-3-15; 8:45 am]

BILLING CODE 4910-EX-P